DEPARTMENT OF THE TREASURY

Office of Foreign Assets Control

Designation of 3 Individuals and 10 Entities Pursuant to Executive Order 13224 of September 23, 2001, “Blocking Property and Prohibiting Transactions With Persons Who Commit, Threaten To Commit, or Support Terrorism”

AGENCY: Office of Foreign Assets Control, Treasury.

ACTION: Notice.

SUMMARY: The Treasury Department's Office of Foreign Assets Control (“OFAC”) is publishing the names of 3 individuals and 10 entities whose property and interests in property are blocked pursuant to Executive Order 13224 of September 23, 2001, “Blocking Property and Prohibiting Transactions With Persons Who Commit, Threaten To Commit, or Support Terrorism.”

DATES: The designations by the Director of OFAC of the 3 individuals and 10 entities in this notice, pursuant to Executive Order 13224, are effective on May 31, 2013.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (www.treas.gov/ofac) or via facsimile through a 24-hour fax-on-demand service, tel.: 202/622-0077.

Background

On September 23, 2001, the President issued Executive Order 13224 (the “Order”) pursuant to the International Emergency Economic Powers Act, 50 U.S.C. 1701-1706, and the United Nations Participation Act of 1945, 22 U.S.C. 287c. In the Order, the President declared a national emergency to address grave acts of terrorism and threats of terrorism committed by foreign terrorists, including the September 11, 2001 terrorist attacks in New York, Pennsylvania, and at the Pentagon. The Order imposes economic sanctions on persons who have committed, pose a significant risk of committing, or support acts of terrorism. The President identified in the Annex to the Order, as amended by Executive Order 13268 of July 2, 2002, 13 individuals and 16 entities as subject to the economic sanctions. The Order was further amended by Executive Order 13284 of January 23, 2003, to reflect the creation of the Department of Homeland Security.

Section 1 of the Order blocks, with certain exceptions, all property and interests in property that are in or hereafter come within the United States or the possession or control of United States persons, of: (1) Foreign persons listed in the Annex to the Order; (2) foreign persons determined by the Secretary of State, in consultation with the Secretary of the Treasury, the Secretary of the Department of Homeland Security and the Attorney General, to have committed, or to pose a significant risk of committing, acts of terrorism that threaten the security of U.S. nationals or the national security, foreign policy, or economy of the United States; (3) persons determined by the Director of OFAC, in consultation with the Departments of State, Homeland Security and Justice, to be owned or controlled by, or to act for or on behalf of those persons listed in the Annex to the Order or those persons determined to be subject to subsection 1(b), 1(c), or 1(d)(i) of the Order; and (4) except as provided in section 5 of the Order and after such consultation, if any, with foreign authorities as the Secretary of State, in consultation with the Secretary of the Treasury, the Secretary of the Department of Homeland Security and the Attorney General, deems appropriate in the exercise of his discretion, persons determined by the Director of OFAC, in consultation with the Departments of State, Homeland Security and Justice, to assist in, sponsor, or provide financial, material, or technological support for, or financial or other services to or in support of, such acts of terrorism or those persons listed in the Annex to the Order or determined to be subject to the Order or to be otherwise associated with those persons listed in the Annex to the Order or those persons determined to be subject to subsection 1(b), 1(c), or 1(d)(i) of the Order.

On May 31, 2013 the Director of OFAC, in consultation with the Departments of State, Homeland Security, Justice and other relevant agencies, designated, pursuant to one or more of the criteria set forth in subsections 1(b), 1(c) or 1(d) of the Order, 3 individuals and 10 entities whose property and interests in property are blocked pursuant to Executive Order 13224.

The listings for these individuals and entities on OFAC's list of Specially Designated Nationals and Blocked Persons appear as follows:

Individuals

1. MERHEJ, Rodrigue Elias (a.k.a. MERKHEZH, Rodrig); DOB 1970; alt. DOB 1969; alt. DOB 1971; POB Lebanon (individual) [SDGT] [IFSR].

2. KIM, Lidia (a.k.a. KIM, Lidia Egorovna; a.k.a. KIM, Lidiia; a.k.a. KIM, Lidiya); DOB 23 Mar 1955; citizen Kyrgyzstan; Passport 02NO133036 (Russia); alt. Passport AN1912357 (individual) [SDGT] [IFSR].

3. ARABNEJAD, Hamid; DOB 16 Apr 1961; alt. DOB 03 May 1956; nationality Iran; Passport E1929795 (Iran) expires 25 May 2010; alt. Passport V08716254 (Iran) expires 15 Jul 2011; alt. Passport V11630399 (Iran) expires 20 Jun 2012; alt. Passport U8356901 (Iran) expires 09 May 2011; alt. Passport H10395121 (Iran) expires 18 Jan 2012; alt. Passport K11946257 (Iran) expires 27 Oct 2012; alt. Passport X13567677 (Iran) expires 02 Jul 2013; alt. Passport D14818825 (Iran) expires 16 Mar 2014; alt. Passport F16438158 (Iran) expires 18 Nov 2014; alt. Passport R19234531 (Iran) expires 02 Nov 2015; alt. Passport L95280222 (Iran) expires 23 Jul 2016; alt. Passport L95273714 (Iran) expires 22 Aug 2016; alt. Passport P95418009 (Iran) expires 27 Apr 2017 (individual) [SDGT] [IFSR].

Entities

1. UKRAINIAN-MEDITERRANEAN AIRLINES (a.k.a. UKRAINSKE-TSCHERMOMORSKIE AVIALINII; a.k.a. UM AIR), 7 Shulyavska Street, Kiev 03055, Ukraine; Building Negin Sai Apartment 105, Valiasr Street, Tehran, Iran; 29 Ayar Street, Julia Dumna Building, Damascus, Syria; 38 Chkalova Street, building 1, office 10, Minsk, Belarus [SDGT] [IFSR].

2. UR-CJW; Aircraft Construction Number (also called L/N or S/N or F/N) 358; Aircraft Manufacture Date 12 Sep 1999; Aircraft Model BAe-146 Avro RJ100; Aircraft Manufacturer's Serial Number (MSN) 3358 (aircraft) [SDGT] [IFSR].

3. UR-CKF; Aircraft Construction Number (also called L/N or S/N or F/N) 341; Aircraft Manufacture Date 20 Dec 1998; Aircraft Model BAe-146 Avro RJ100; Aircraft Operator Mahan Air; Aircraft Manufacturer's Serial Number (MSN) 3341 (aircraft) [SDGT] [IFSR].

4. UR-CKG; Aircraft Construction Number (also called L/N or S/N or F/N) 362; Aircraft Manufacture Date 16 Nov 1999; Aircraft Model BAe-146 Avro RJ100; Aircraft Operator Mahan Air; Aircraft Manufacturer's Serial Number (MSN) 3362 (aircraft) [SDGT] [IFSR].

5. UR-CKJ; Aircraft Construction Number (also called L/N or S/N or F/N) 343; Aircraft Manufacture Date 04 Sep 1999; Aircraft Model BAe-146 Avro RJ100; Aircraft Operator Mahan Air; Aircraft Manufacturer's Serial Number (MSN) 3343 (aircraft) [SDGT] [IFSR].

6. UR-CKX; Aircraft Construction Number (also called L/N or S/N or F/N) 131; Aircraft Manufacture Date 25 May 1989; Aircraft Model BAe-146 Avro RJ300; Aircraft Operator Ukrainian-Mediterranean Airlines; Aircraft Operator Ukrainian-Mediterranean Airlines; Aircraft Manufacturer's Serial Number (MSN) 3131 (aircraft) [SDGT] [IFSR].

7. UR-CKY; Aircraft Construction Number (also called L/N or S/N or F/N) 146; Aircraft Manufacture Date 08 Jan 1990; Aircraft Model BAe-146 Avro RJ100; Aircraft Operator Mahan Air; Aircraft Manufacturer's Serial Number (MSN) 3146 (aircraft) [SDGT] [IFSR].

8. UR-CKZ; Aircraft Construction Number (also called L/N or S/N or F/N) 159; Aircraft Manufacture Date 01 Jan 1990; Aircraft Model BAe-146 Avro RJ300; Aircraft Operator Ukrainian-Mediterranean Airlines; Aircraft Manufacturer's Serial Number (MSN) 3159 (aircraft) [SDGT] [IFSR].

9. KYRGYZ TRANS AVIA (a.k.a. KYRGYZTRANSAVIA AIRLINES), Bulvar Erkindik 35, Bishkek, Kyrgyzstan; 32 Razzakova Street, Bishkek 720040, Kyrgyzstan [SDGT] [IFSR].

10. SIRJANCO TRADING L.L.C., 17th Floor, Office 1701, Al Moosa Tower 1, Sheikh Zayed Road, Dubai, United Arab Emirates [SDGT] [IFSR].

Dated: May 31, 2013.
Adam J. Szubin,
Director, Office of Foreign Assets Control.

[FR Doc. 2013-13673 Filed 6-7-13; 8:45 am]

BILLING CODE 4810-AL-P